DEPARTMENT OF TRANSPORTATION

Federal Aviation Administration

Notice of Intent To Rule on Request To Release Airport Property at the University of Oklahoma Westheimer Airport, Norman, OK

AGENCY: Federal Aviation Administration (FAA), DOT.

ACTION: Notice of request to release airport property.

SUMMARY: The FAA proposes to rule and invites public comment on the release of land at the University of Oklahoma Westheimer Airport under the provisions of Section 125 and 751 of the Wendell H. Ford Aviation Investment Reform Act for the 21st Century (AIR 21) and Section 352 of Public Law 106-346 (FY-2001 Department of Transportation Appropriation Act).

DATES: Comments must be received on or before June 18, 2001.

ADDRESSES: Comments on this application may be mailed or delivered to the FAA at the following address: Mr. Edward Agnew, Manager, Federal Aviation Administration, Southwest Region, Airports Division, Arkansas/Oklahoma Airports Development Office, ASW-630, Fort Worth, Texas 76193-0630.

In addition, one copy of any comments submitted to the FAA must be mailed or delivered to Mr. David L. Boren, President at the following address: The University of Oklahoma, Office of the President, 660 Parington Oval, Evans Hall, Room 110, Norman, OK 73019.

FOR FURTHER INFORMATION CONTACT: Mr. Dave Hellen, Program Manager, Federal Aviation Administration, Oklahoma City Airports District Office, 5909 Phillip J. Rhoads Avenue, Oklahoma City, Oklahoma 73008.

The request to release property may be reviewed in person at this same location.

SUPPLEMENTARY INFORMATION: The FAA invites public comments on the request to release property at the University of Oklahoma Westheimer Airport, Norman, Oklahoma under the provisions of the AIR-21 and Public Law 106-346.

On April 2, 2001, the FAA received a proposal with supporting information requesting release of property at the University of Oklahoma Westheimer Airport. The proposal meets the requirements of section 751 of AIR-21 and section 352 of Public Law 106-346. FAA may approve the request, in whole or in part, at the conclusion of the comment period.

The following is a brief overview of the request:

The University of Oklahoma requests the release of approximately 200 acres of airport property identified as “Parcels II, III and IV” from the terms and conditions represented in Surplus Property and Grant Agreements. The release of property will permit the University of Oklahoma to derive proceeds from the use, operation and disposal of the land to construct and establish with the National Oceanic and Atmospheric Administration and the National Weather Service a weather facility.

Any person may inspect the University's request in person at the FAA office listed above under FOR FURTHER INFORMATION CONTACT.

In addition, any person may, upon request, inspect the application, notice and other documents germane to the application in person by contacting the University of Oklahoma.

Issued in Forth Worth, Texas on April 27, 2001.
Naomi L. Saunders,
Manager, Airports Division.

[FR Doc. 01-12487 Filed 5-16-01; 8:45 am]

BILLING CODE 4910-13-M